DEPARTMENT OF HOMELAND SECURITY

Coast Guard

[Docket No. USCG-2020-0181]

Guidance for Voluntarily Obtaining Merchant Mariner Credential Endorsements for Basic and Advanced Operations on Vessels Subject to the International Code of Safety for Ships Using Gases or Low Flashpoint Fuels

AGENCY: Coast Guard, DHS.

ACTION: Notice of availability.

SUMMARY: The Coast Guard announces the availability of CG-MMC Policy Letter 01-21, titled “Guidelines for Obtaining STCW Endorsements for Basic and Advanced IGF Code Operations.” This policy provides guidance for the issuance of Merchant Mariner Credential endorsements in accordance with the International Convention on Standards of Training, Certification and Watchkeeping for Seafarers, 1978, as amended, and with the Seafarers' Training, Certification and Watchkeeping Code, for Basic and Advanced Operations on vessels subject to the International Code of Safety for Ships Using Gases or Low Flashpoint Fuels.

DATES: CG-MMC Policy Letter 01-21 was issued January 4, 2021.

ADDRESSES: Policy Letter 01-21 is available in docket number USCG-2020-0181 on http://www.regulations.gov, and also on the National Maritime Center website at https://www.dco.uscg.mil/nmc/policy_regulations.

FOR FURTHER INFORMATION CONTACT: For information about this policy, contact James Cavo, U.S. Coast Guard Mariner Credentialing Program Policy Division (CG-MMC-2); telephone (202) 372-1205, email James.D.Cavo@uscg,mil.

SUPPLEMENTARY INFORMATION:

Background

The International Maritime Organization (IMO) adopted the International Code of Safety for Ships Using Gases or Other Low Flashpoint Fuels (IGF Code). The IGF Code addresses safety and environmental requirements for vessels using gases or other low flashpoint fuels as well as the level of training required for personnel serving on these vessels. Additionally, in order to define the training requirements supporting the IGF Code, IMO developed amendments to the International Convention on Standards of Training, Certification and Watchkeeping for Seafarers, 1978, as amended (STCW Convention) and to the Seafarers' Training, Certification and Watchkeeping Code, as amended (STCW Code)—the instruments that provide the international standards for mariner training. These amendments provide minimum standards of competence, sea service, and training for certification at the basic and advanced levels in IGF Code Operations.

The IGF Code and the associated amendments to the STCW Convention and to the STCW Code entered into force on January 1, 2017. These provisions set minimum standards of competence, sea service, and training for certification at the basic and advanced levels in IGF Code Operations. These minimum standards apply to personnel on vessels subject to the IGF Code who have designated safety duties associated with or immediate responsibility for the care, use, or emergency response to the fuels on board a vessel using gases or low flashpoint fuels.

On February 19, 2015, the Coast Guard issued CG-OES Policy Letter 01-15,¹ “Guidelines for Liquefied Natural Gas Fuel Transfer Operations and Training of Personnel on Vessels Using Natural Gas as Fuel,” to provide voluntary guidance on fuel transfer operations and the training of personnel working on U.S. and foreign vessels that use natural gas as fuel and conduct liquefied natural gas (LNG) fuel transfer operations in waters subject to U.S. jurisdiction.²

¹ This policy letter is available at https://www.dco.uscg.mil/Portals/9/DCO%20Documents/5p/5ps/MMC/CG-MMC-2%20Policies/CG%20OES%20Policy%20Letter%2001-15%20signature%20with%20Enclosures.pdf?ver=2018-06-07-131254-300.

² See Federal Register Notice, “Policy Letters: Guidance for the Use of Liquefied Natural Gas as a Marine Fuel”, which announced the availability of CG-OES Policy Letter 01-15 (80 FR 10131).

On April 23, 2019, the Coast Guard issued CG-MMC Policy Letter 02-19,³ “Guidelines for Training of Personnel on Vessels Using Natural Gas and Other Low Flash Point Fuels.” This policy republished the training guidance provided in CG-OES Policy Letter 01-15 without any change to the content, but aligned the policy name with the organizational structure of the Merchant Mariner Credentialing program, which was reorganized in 2016.

³ https://www.dco.uscg.mil/Portals/9/DCO%20Documents/5p/5ps/MMC/CG-MMC-2%20Policies/CG-MMC%2002-19%20IGF%20Vessels.pdf?ver=2019-04-23-131748-703.

CG-OES Policy Letter 01-15 and CG-MMC Policy Letter 02-19 were interim measures to better ensure that U.S. mariners were sufficiently trained to work aboard vessels using natural gas and other low flash point fuels. The Coast Guard did not issue endorsements to mariners who completed training in accordance with either policy.

Discussion of Policy Letter CG-MMC Policy Letter 01-21

The Coast Guard will now begin issuing STCW endorsements in Basic and Advanced IGF Code Operations to mariners who voluntarily meet the STCW requirements for certification at the basic and advanced levels in IGF Code Operations. CG-MMC Policy Letter 01-21 ⁴ provides information on how to qualify for and request the endorsements. The Coast Guard is issuing these endorsements in response to industry requests and to facilitate maritime commerce. These endorsements are not currently mandated by Coast Guard regulation. However, because the United States is signatory to the STCW Convention, vessel owners and operators should be aware that their vessels are subject to foreign port state control actions, including detention, if mariners are not compliant with the STCW Convention and the STCW Code.

⁴ CG-MMC Policy Letter 01-21 is available in the docket where indicated under the ADDRESSES portion of this notice.

CG-MMC Policy Letter 01-21 was issued January 4, 2021. The National Maritime Center will begin accepting applications for IGF Code Operations endorsements when this notice is published.

The difference between CG-MMC Policy Letter 02-19 and CG-MMC Policy Letter 01-21 is that the Coast Guard will now issue MMC endorsements for Basic and Advanced IGF Code Operations to mariners who have voluntarily met the requirements for the endorsements. The Coast Guard expects that industry has already incurred costs from attending training for Basic and Advanced IGF Code Operations. However, we do not have data on how many mariners have completed training in IGF Code Operations, or how many would ultimately complete training due to the issuance of CG-MMC Policy Letter 01-21. Therefore, we present here the total costs that may have occurred or would occur if our estimated population completes training for either Basic or Advanced IGF Code Operations.

The Coast Guard estimates this policy will generate a total cost to industry and the Federal Government of $11,068,608 ($10,917,059 for costs to industry and $151,549 for costs to the Federal Government) in 2019 dollars discounted at 7 percent over the next 10 years. Table 1 presents the affected population, costs, and benefits associated with the implementation of the CG-MMC Policy Letter 01-21. Table 1 below demonstrates these costs.

Table 1—Summary of Affected Population, Costs, and Benefits for Issuing STCW Endorsements for IGF Code Operations
Affected population (annual average) | Annual average of 508 mariners and 4 STCW training providers
Total Costs Annualized (7% discount rate) | $1,575,921
Total 10-year (7% discount rate) | 11,068,608
Total Costs to Industry Annualized (7% discount rate) | 1,554,344
Total 10-year (7% discount rate) | 10,917,059
Total Costs to the Federal Government Annualized (7% discount rate) | 21,577
Total 10-year (7% discount rate) | 151,549

The affected population may choose to submit CG-719B Application for Merchant Mariner Credential for an MMC endorsement in Basic or Advanced IGF Code Operations to the U.S. Coast Guard. Applications are submitted to a Coast Guard Regional Examination Center in accordance with 46 CFR 10.209.5 6 There is no fee associated with adding an STCW endorsement to an MMC. We estimate that 508 mariners would voluntarily submit MMC applications to the U.S. Coast Guard on an annual basis.⁷ The Coast Guard further estimates that this could lead to an increase of mariners' annual hourly burden for submitting documentation by approximately 42 hours (508 mariners × 0.083 hours).

⁵ Due to the COVID-19 pandemic applications are only being accepted via email. Under normal conditions applications may be submited in person at a Regional Examination Center or via email at the mariner's convenience.

⁶ https://www.dco.uscg.mil/nmc/merchant_mariner_credential/ provides detailed instructions on how to submit an MMC application to the National Maritime Center.

⁷ According to the Liquefied Gas Carrier National Center, an annual average of approximately 508 mariners would need STCW endorsements for Basic or Advanced IGF Code Operations over the 10-year period from 2020-2029. See Coast Guard “IGF Code Policy Letter Cost Analysis,” which is available in the docket where indicated under the ADDRESSES portion of this notice. This can be found in the docket USCG-2020-0181 under “IGF Code Policy Letter Cost Analysis.”

CG-MMC Policy Letter 01-21 is not a substitute for applicable legal requirements, nor is it itself a rule. The Coast Guard does not currently require any mariner to obtain the endorsements discussed in CG-MMC Policy Letter 01-21. In other words, it is possible to comply with U.S. domestic legal obligations without undertaking the specific trainings, or obtaining the specific endorsements, described in CG-MMC Policy Letter 01-21.

Before creating any such requirement, the Coast Guard would undertake a separate rulemaking.

We issue this notice of availability in accordance with 5 U.S.C. 552(a) and under the authority of 46 U.S.C. 7101. If you have questions about the policy letter, or believe that changes are necessary, please contact the person in the For Further Information Contact section of this notice.

Dated: January 7, 2021.
Jeffrey G. Lantz,
Director of Commercial Regulations and Standards.

[FR Doc. 2021-00372 Filed 1-11-21; 8:45 am]

BILLING CODE 9110-04-P